DEPARTMENT OF LABOR

Occupational Safety and Health Administration

[Docket No. OSHA-2006-0048]

NSF International: Grant of Renewal of Recognition

AGENCY: Occupational Safety and Health Administration (OSHA), Labor.

ACTION: Notice.

SUMMARY: This notice announces the Occupational Safety and Health Administration's final decision granting renewal of recognition of NSF International as a Nationally Recognized Testing Laboratory (NRTL).

DATES: The renewal of recognition becomes effective on July 14, 2014.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: Meilinger.francis2@dol.gov.

General and technical information: Contact Mr. David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the NRTL Program (see http://www.osha.gov/dts/otpca/nrtl/index.html).

SUPPLEMENTARY INFORMATION:

I. Background

OSHA recognition of an NRTL signifies that the organization meets the requirements specified by 29 CFR 1910.7. Recognition is an acknowledgment that the organization can perform independent safety testing and certification of the specific products covered within its scope of recognition, and is not a delegation or grant of government authority. As a result of recognition, employers may use products properly approved by the NRTL to meet OSHA standards that require testing and certification. OSHA maintains an informational Web page for each NRTL that details its scope of recognition. These pages are available from the Agency's Web site at http://www.osha.gov/dts/otpca/nrtl/index.html.

OSHA processes applications submitted by an NRTL for renewal of recognition following requirements in Appendix A to 29 CFR 1910.7. OSHA conducts renewals in accordance with the procedures in 29 CFR 1910.7, App. A, section II.C. In accordance with these procedures, NRTLs submit a renewal request to OSHA between nine months and one year before the expiration date of its current recognition. A renewal request includes an application for renewal and any additional information demonstrating its continued compliance with the terms of its recognition and 29 CFR 1910.7. If OSHA has not conducted an on-site assessment of the NRTL headquarters and any key sites within the past 18 to 24 months, it will schedule the necessary on-site assessments prior to the expiration date of the NRTL's recognition. Upon review of the submitted material and, as necessary, the successful completion of the on-site assessment, OSHA announces its preliminary decision to grant or deny renewal in the Federal Register and solicits comments from the public. OSHA then publishes a final Federal Register notice responding to any comments and renewing the NRTL's recognition for a period of five years, or denying the renewal of recognition.

NSF International (NSF) initially received OSHA recognition as an NRTL on December 10, 1998 (63 FR 68309). The most recent renewal for NSF was on August 30, 2005, for a five-year period expiring on August 30, 2010. NSF submitted a timely request for renewal, dated November 16, 2009 (see Exhibit OSHA-2006-0048-0010), and retained its recognition pending OSHA's final decision in this renewal process. The current address of the NSF facility recognized by OSHA and included as part of the renewal request is NSF International, 789 Dixboro Road, Ann Arbor, Michigan 48105.

OSHA evaluated NSF's application for renewal and made a preliminary determination that NSF can continue to meet the requirements prescribed by 29 CFR 1910.7 for recognition. OSHA conducted an on-site audit of NSF's facilities on January 29, 2014, and found non-conformances with the requirements of 29 CFR 1910.7. NSF addressed these issues sufficiently to meet the applicable NRTL requirements. Accordingly, OSHA determined that it did not need to conduct an on-site review of NSF's facilities for this request for renewal based on its evaluation of NSF's application, the audit, and all other available information.

OSHA published the preliminary notice announcing NSF's renewal request in the Federal Register on April 22, 2014 (79 FR 22547). The Agency requested comments by May 7, 2014, but received no comments in response to this notice. OSHA now is proceeding with this final notice to grant NSF's request for renewal of recognition.

To obtain or review copies of the publicly available information in NSF's application, including pertinent documents (e.g., exhibits) and all submitted comments, contact the Docket Office, Occupational Safety and Health Administration, U.S. Department of Labor, 200 Constitution Avenue NW., Room N-2625, Washington, DC 20210. These materials are also available online at http://www.regulations.gov under Docket No. OSHA-2006-0048.

II. Final Decision and Order

Pursuant to the authority granted under 29 CFR 1910.7, OSHA hereby gives notice of the renewal of recognition of NSF as an NRTL. OSHA NRTL Program staff reviewed the renewal request for NSF and other pertinent information provided by NSF. Based on this review of the renewal request for NSF and other available information, OSHA finds that NSF meets the requirements of 29 CFR 1910.7 for renewal of its recognition, subject to the specified limitation and conditions. OSHA limits the renewal of NSF's recognition to include the terms and conditions of NSF's scope of recognition. The scope of recognition for NSF is available in the Federal Register notice dated December 10, 1998 (63 FR 68309), or on OSHA's Web site at http://www.osha.gov/dts/otpca/nrtl/nsf.html.

Conditions

In addition to those conditions already required by 29 CFR 1910.7, NSF also must abide by the following conditions of recognition:

1. NSF must inform OSHA as soon as possible, in writing, of any change of ownership, facilities, or key personnel, and of any major change in its operations as an NRTL, and provide details of the change(s);

2. NSF must meet all the terms of its recognition and comply with all OSHA policies pertaining to this recognition; and

3. NSF must continue to meet the requirements for recognition, including all previously published conditions on NSF's scope of recognition, in all areas for which it has recognition.

III. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on July 9, 2014.
David Michaels,
Assistant Secretary of Labor for Occupational Safety and Health.

[FR Doc. 2014-16431 Filed 7-11-14; 8:45 am]

BILLING CODE 4510-26-P